DEPARTMENT OF TRANSPORTATION

Federal Aviation Administration

Revocation of Type Certificate

AGENCY: Federal Aviation Administration (FAA), DOT.

ACTION: Revocation of a type certificate.

SUMMARY: Notice of revocation of Type Certificate No. H12EU.

FOR FURTHER INFORMATION CONTACT: Jim Grigg, Rotorcraft Standards Staff, Rotorcraft Directorate, Aircraft Certification Service, Fort Worth, Texas 76193-0110, telephone (817) 222-5961.

SUPPLEMENTARY INFORMATION: Westland Helicopters Limited (Westland), current owner of Type Certificate (TC) No. H12EU, has returned that TC to the United Kingdom Civil Aviation Authority (UKCAA), which is the airworthiness authority for the United Kingdom. The UKCAA has requested that the FAA revoke the TC, which includes Model Westland 30 series 100 and series 100-60 helicopters. There are 9 of the subject model helicopters on the U.S. Registry; however, all 9 helicopters have been purchased by Westland and are being destroyed.

Effective today, TC No. H12EU is revoked, and there is no further FAA approval status for the Westland 30 series 100 and series 100-60 helicopters.

Issued in Forth Worth, Texas on July 11, 2000.
Henry A. Armstrong,
Manager, Rotorcraft Directorate, Aircraft Certification Service.

[FR Doc. 00-18244 Filed 7-18-00; 8:45 am]

BILLING CODE 4910-13-M